SOCIAL SECURITY ADMINISTRATION

Agency Information Collection Activities: Proposed Request

The Social Security Administration (SSA) publishes a list of information collection packages requiring clearance by the Office of Management and Budget (OMB) in compliance with Public Law (Pub. L.) 104-13, the Paperwork Reduction Act of 1995, effective October 1, 1995. This notice includes extensions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Director to the following addresses or fax numbers.

(OMB) Office of Management and Budget, Attn: Desk Officer for SSA, Fax: 202-395-6974, E-mail address: OIRA_Submission@omb.eop.gov.

(SSA) Social Security Administration, DCBFM, Attn: Reports Clearance Officer, 1333 Annex Building, 6401 Security Blvd., Baltimore, MD 21235, Fax: 410-965-6400, E-mail address: OPLM.RCO@ssa.gov.

The information collection below is pending at SSA. SSA will submit it to OMB within 60 days from the date of this notice. To be sure we consider your comments, we must receive them no later than September 7, 2010. Individuals can obtain copies of the collection instruments by calling the SSA Director for Reports Clearance at 410-965-0454 or by writing to the above e-mail address.

1. Beneficiary Recontact Report—20 CFR 404.703 and 404.705—0960-0536. Studies show that payees of children receiving Social Security benefits who marry fail to report the marriage. Therefore, SSA periodically determines eligibility for benefits for children ages 15 through 17 by asking for information about marital status using Form SSA-1587-OCR-SM. SSA uses the information to detect overpayments and avoid continuing payment to those no longer entitled. Respondents are representative payees for children ages 15 through 17.

Type of Request: Revision of an OMB-approved information collection.

Number of Respondents: 982,357.

Frequency of Response: 1.

Average Burden per Response: 3 minutes.

Estimated Annual Burden: 49,118 hours.

2. Request for Proof(s) from Custodian of Records—20 CFR 404.703, 404.704, 404.720, 404.721, 404.723, 404.725, & 404.728—0960-0766. SSA sends records custodians the SSA-L707 on behalf of individuals who need help obtaining evidence of death, marriage, or divorce in connection with claims for benefits. SSA uses the information from the SSA-L707 to determine eligibility for benefits. The respondents are records custodians including statistics and religious entities, coroners, funeral directors, attending physicians, and state agencies.

Type of Request: Revision of an OMB-approved information collection.

Type of respondents | Number of respondents | Frequency of response | Average burden per response (minutes) | Total annual burden (hours)
State or Local Government | 501 | 1 | 10 | 84
Private Sector | 99 | 1 | 10 | 17
Totals | 600 |  |  | 101

Dated: July 2, 2010.
Faye Lipsky,
Reports Clearance Officer, Center for Reports Clearance, Social Security Administration.

[FR Doc. 2010-16735 Filed 7-8-10; 8:45 am]

BILLING CODE 4191-02-P